DEPARTMENT OF HOMELAND SECURITY

Coast Guard

33 CFR Part 117

[Docket No. USCG-2019-0955]

Drawbridge Operation Regulation; New River, Fort Lauderdale, FL

AGENCY: Coast Guard, DHS.

ACTION: Notice of temporary deviation from regulations; request for comments.

SUMMARY: The Coast Guard has issued a temporary deviation from the operating schedule that governs the Florida East Coast (FEC) Railroad Bridge across the New River, mile 2.5, at Fort Lauderdale, Florida. This deviation will test a change to the drawbridge operation schedule to determine if the proposed operating schedule changes will meet the reasonable needs of maritime traffic and railway traffic. This deviation will allow the drawbridge to operate a more predictable schedule.

DATES: This deviation is effective without actual notice from January 23, 2020 through 11:59 p.m. on June 26, 2020. For the purposes of enforcement, actual notice will be used from 12:01 a.m. on January 4, 2020, until January 23, 2020.

Comments and related material must reach the Coast Guard on or before March 30, 2020.

ADDRESSES: You may submit comments identified by docket number USCG-2019-0955 using Federal eRulemaking Portal at http://www.regulations.gov.

See the “Public Participation and Request for Comments” portion of the SUPPLEMENTARY INFORMATION section below for instructions on submitting comments.

FOR FURTHER INFORMATION CONTACT: If you have questions on this test deviation, call or email LT Samuel Rodriguez-Gonzalez, U.S. Coast Guard, Sector Miami Waterways Management Division; telephone 305-535-4307, email Samuel.Rodriguez-Gonzalez@uscg.mil.

SUPPLEMENTARY INFORMATION:

I. Background, Purpose and Legal Basis

The Florida East Coast (FEC) Railroad Bridge across the New River, mile 2.5, at Fort Lauderdale, Florida is a single-leaf bascule railroad bridge with a four foot vertical clearance at mean high water in the closed position. The normal operating schedule for the bridge is found in 33 CFR 117.313(c). Navigation on the waterway is commercial and recreational. There has been an increase in rail traffic across the bridge in recent years due the start of passenger rail service. The bridge owner, Florida East Coast Railway, has requested to test an alternate drawbridge operating schedule to determine if the needs of railway traffic and maritime traffic can be better accommodated. This test deviation provides for bridge openings a fixed times throughout the day allowing for a more predictable drawbridge operating schedule.

Under this deviation, the Florida East Coast (FEC) Railroad Bridge shall be maintained in the fully open-to-navigation position for vessels at all times, except during periods when it is closed for the passage of rail traffic, inspections and minor repairs. The drawbridge shall open and remain open to navigation for a fixed 10-minute period each hour, except that the drawbridge shall be open at the following times which shall serve as the hourly fixed 10-minute period:

—7 a.m. until 7:10 a.m.

—9 a.m. until 9:10 a.m.

—4 p.m. until 4:10 p.m.

—6 p.m. until 6:10 p.m.

—10 p.m. until 10:10 p.m.

Additionally, in each hour from Noon to 2:59 p.m., the drawbridge shall open and remain open to navigation for an additional 10-minute period. The fixed 10-minute opening periods shall be published on a quarterly basis by the drawbridge owner and reflected on the owner's website and mobile application. In any case, the drawbridge shall not be closed to navigation for more than 60 consecutive minutes.

The drawbridge shall have a drawbridge tender onsite at all times who is capable of physically tending and operating the drawbridge by local control, if necessary, or when ordered by the Coast Guard. The drawbridge tender shall provide estimated times of drawbridge openings and closures, upon request. Operational information will be provided 24 hours a day on VHF-FM channels 9 and 16 or by telephone at (305) 889-5572. Signs shall be posted visible to marine traffic and displaying VHF radio contact information, website and application information, and the telephone number for the bridge tender.

In the event of a drawbridge operational failure, or other emergency circumstances impacting normal drawbridge operations, the drawbridge owner shall immediately notify the Coast Guard Captain of the Port Miami and provide an estimated time of repair and return to normal operations.

A drawbridge log shall be maintained including drawbridge opening and closing times. The drawbridge log should include reasons for those drawbridge closings that interfere with scheduled openings in this part. This log shall be provided to the Coast Guard upon request.

A website and mobile application shall be maintained to publish: Drawbridge opening times required by this subsection; timely updates to schedules; at least 24-hour advance notice for each schedule in order to facilitate planning by maritime operators; and to the extent reasonably practicable, at least 60-minutes advance notice of schedule changes or delays.

Vessels able to pass through the bridge in the closed position may do so at anytime. The bridge will be able to open for emergencies and there is no immediate alternate route for vessels to pass. The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

II. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, visit http://www.regulations.gov/privacynotice.

Dated: January 3, 2020.
Barry Dragon,
Director, Bridge Branch, Seventh Coast Guard District.

[FR Doc. 2020-00115 Filed 1-22-20; 8:45 am]

BILLING CODE 9110-04-P